DEPARTMENT OF HEALTH AND HUMAN SERVICES

National Institutes of Health

National Institute of Diabetes and Digestive and Kidney Diseases; Notice of Meeting

Pursuant to section 10(a) of the Federal Advisory Committee Act, as amended (5 U.S.C. Appendix 2), notice is hereby given of a meeting of the National Commission on Digestive Diseases.

The meeting will be open to the public, with attendance limited to space available. Individuals who plan to attend and need special assistance, such as sign language interpretation or other reasonable accommodations, should notify the Contact Person listed below in advance of the meeting.

Name of Committee: National Commission on Digestive Diseases.

Date: May 16, 2008.

Time: 4 p.m. to 7 p.m.

Agenda: Update on burden of disease report; overview of Commission and key elements of final report and general discussion. Pre-registration is required; instructions will be available on the Commission's Web site at http://www2.niddk.nih.gov/AboutNIDDKlCommitteesAndWorkingGroups/NCDD/default.htm.

Place: Westin San Diego, 400 West Broadway, Topaz Room, San Diego, CA 92101.

Contact Person: Stephen P. James, MD, Director, Division of Digestive Diseases & Nutrition, National Institute of Diabetes and Digestive and Kidney Diseases, NIH, 6707 Democracy Blvd., Rm. 677, Bethesda, MD 20892-5450, 301-594-7680, natlcommdd@mail.nih.gov.

(Catalogue of Federal Domestic Assistance Program Nos. 93.847, Diabetes, Endocrinology and Metabolic Research; 93.848, Digestive Diseases and Nutrition Research; 93.849, Kidney Diseases, Urology and Hematology Research, National Institutes of Health, HHS)

Dated: March 12, 2008.
Jennifer Spaeth,
Director, Office of Federal Advisory Committee Policy.

[FR Doc. E8-5463 Filed 3-18-08; 8:45 am]

BILLING CODE 4140-01-M